INTERNATIONAL TRADE COMMISSION

[Inv. No. 337-TA-640]

In the Matter of Certain Short-Wavelength Light Emitting Diodes, Laser Diodes and Products Containing Same; Notice of Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 5) of the presiding administrative law judge (“ALJ”) granting complainant's motion to amend the complaint and the notice of investigation.

FOR FURTHER INFORMATION: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On March 25, 2008, the Commission instituted an investigation under section 337 of the Tariff Act of 1930, 19 U.S.C. 1337, based on a complaint filed by Gertrude Neumark Rothschild of Hartsdale, New York, alleging a violation of section 337 in the importation, sale for importation, and sale within the United States after importation of certain short-wavelength light emitting diodes, laser diodes and products containing same that infringe certain claims of U.S. Patent No. 5,252,499. 73 FR 1575 (March 25, 2008). The complainant named numerous entities as respondents.

On April 1, 2008, complainant moved to amend the complaint and notice of investigation to (1) correct the name of the Samsung respondent entity from Samsung Group to Samsung Electronics Co., Ltd., and (2) add Ben Q Corporation as a respondent.

On April 15, 2008, the ALJ issued Order No. 5 granting complainant's motion. No party petitioned for review of Order No. 5. The Commission has determined not to review the ID.

The authority for the Commission's determination is contained in section 337 of the Tariff Act of 1930, as amended (19 U.S.C. 1337), and in section 210.42(h) of the Commission's Rules of Practice and Procedure (19 CFR 210.42(h)).

By order of the Commission.
Issued: May 6, 2008.
Marilyn R. Abbott,
Secretary to the Commission.

[FR Doc. E8-10349 Filed 5-8-08; 8:45 am]

BILLING CODE 7020-02-P